DEPARTMENT OF TRANSPORTATION

Federal Aviation Administration

Notice of Intent To Request Revision From the Office of Management and Budget of a Currently Approved Information Collection Activity, Request for Comments; Safety Improvements Report Accident Prevention Counselor Activity Reports

AGENCY: Federal Aviation Administration (FAA), DOT.

ACTION: Notice and request for comments.

SUMMARY: The FAA invites public comments about our intention to request the Office of Management and Budget (OMB) to approve a current information collection. Accident Prevention Counselor Activity Reports are used by counselors to advise the FAA of Accident Prevention Program accomplishments.

DATES: Please submit comments by June 23, 2008.

FOR FURTHER INFORMATION CONTACT: Carla Mauney on (202) 267-9895, or by e-mail at: Carla.Mauney@faa.gov.

SUPPLEMENTARY INFORMATION:

Federal Aviation Administration (FAA)

Title: Safety Improvements Report Accident Prevention Counselor Activity Reports.

Type of Request: Revision of an approved collection.

OMB Control Number: 2120-0057.

Forms(s): FAA Forms 8740-5 and 8740-6.

Affected Public: A total of 4,792 Respondents.

Frequency: The information is collected on occasion.

Estimated Average Burden per Response: Approximately 6 minutes per response.

Estimated Annual Burden Hours: An estimated 2,042 hours annually.

Abstract: Safety improvement reports are used by airmen to notify the FAA of hazards to flight operations. Accident Prevention Counselor Activity Reports are used by counselors to advise the FAA of Accident Prevention Program accomplishments.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on April 17, 2008.
Carla Mauney,
FAA Information Collection Clearance Officer, IT Enterprises Business Services Division, AES-200.

[FR Doc. E8-8726 Filed 4-22-08; 8:45 am]

BILLING CODE 4910-13-M